DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on March 9, 2010 at the Sunnyslope Fire Station, 206 Easy Street, Wenatchee, WA. During this meeting information will be shared about Okanogan-Wenatchee National Forest Restoration Strategy, Wilderness Society North Cascades Proposal, and U.S. Fish & Wildlife Service update on the justification to not list the Pika as a threatened and endangered species. All Eastern Washington Cascades and Yakima Province Advisory Committee meetings are open to the public.

FOR FURTHER INFORMATION CONTACT: Direct questions regarding this meeting to Becki Heath, Designated Federal Official, USDA, Okanogan-Wenatchee National Forest, 215 Melody Lane, Wenatchee, Washington 98801, phone 509-664-9200.

Dated: February 10, 2010.
Rebecca Lockett Heath,
Designated Federal Official, Okanogan-Wenatchee National Forest.

[FR Doc. 2010-3286 Filed 2-18-10; 8:45 am]

BILLING CODE 3410-11-P